DEPARTMENT OF STATE

[Public Notice: 9255]

U.S. Advisory Commission on Public Diplomacy Notice of Meeting

The U.S. Advisory Commission on Public Diplomacy will hold a public meeting from 10:00 a.m. until 11:30 a.m., Tuesday, September 22, 2015 in Room 902 (ninth floor) of the Hart Senate Office Building, at the corner of Second Street and Constitution Ave. NE., Washington, DC 20002.

The meeting's topic will be on “A Report on United States Public Diplomacy and International Broadcasting Activities Worldwide” and will feature findings from the Commission's second-ever Congressionally-mandated Comprehensive Annual Report on State Department and Broadcasting Board of Governors-led foreign public engagement activities. Representatives from the State Department and the BBG will be in attendance to discuss the report, which focuses on both Washington and field-directed activities.

This meeting is open to the public, Members and staff of Congress, the State Department, Defense Department, the media, and other governmental and non-governmental organizations. To attend and make any requests for reasonable accommodation, email pdcommission@state.gov by 5 p.m. on Friday, September 18, 2015. Please arrive for the meeting by 9:45 a.m. to allow for a prompt meeting start.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. William Hybl of Colorado, Chair; Ambassador Lyndon Olson of Texas, Vice Chair; Mr. Sim Farar of California, Vice Chair; Ambassador Penne Korth Peacock of Texas; Ms. Lezlee Westine of Virginia; and Anne Terman Wedner of Illinois. One seat on the Commission is currently vacant.

To request further information about the meeting or the U.S. Advisory Commission on Public Diplomacy, you may contact its Executive Director, Katherine Brown, at BrownKA4@state.gov.

Dated: August 25, 2015.
Katherine Brown,
Executive Director,U.S. Advisory Commission on Public Diplomacy, Department of State.

[FR Doc. 2015-21928 Filed 9-2-15; 8:45 am]

BILLING CODE 4710-05-P